DEPARTMENT OF TRANSPORTATION

Federal Aviation Administration

[Docket No. FAA-2020-0936]

Agency Information Collection Activities: Requests for Comments; Clearance of a New Approval of Information Collection: Survey of Industry's Response to Safety Alert for Operators (SAFO) 17007

AGENCY: Federal Aviation Administration (FAA), DOT.

ACTION: Notice and request for comments.

SUMMARY: In accordance with the Paperwork Reduction Act of 1995, FAA invites public comments about our intention to request the Office of Management and Budget (OMB) approval for a new information collection. The collection involves survey responses from U.S. operator (Part 121 and Part 135) employees who lead departments responsible for Operations and Standards, Training, and Safety to understand how industry has addressed recommendations from SAFO 17007 and to inform future guidance on manual flight skill proficiency in future en-route and terminal environments. This information collection is necessary, as no other information sources have been identified that would provide the required information. Operator policies and procedures are not publicly shared; therefore, this is the only reliable method to gather anonymous information from a representative industry sample.

DATES: Written comments should be submitted by December 7, 2020.

ADDRESSES: Please send written comments:

By Electronic Docket: www.regulations.gov (Enter docket number into search field).

FOR FURTHER INFORMATION CONTACT: Victor Quach by email at: victor.k.quach@faa.gov; phone: 202-267-3585.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Survey of Industry's Response to Safety Alert for Operators (SAFO) 17007.

Form Numbers: Not applicable.

Type of Review: New information collection.

Background: The Federal Aviation Administration (FAA) is developing guidance materials on maintaining manual flight skill proficiency in future en-route and terminal environments where pilots will have less opportunities to practice manual flight knowledge, skills, and abilities (KSAs) in a highly automated environment. The FAA is conducting this survey of U.S. operators (Part 121 and Part 135) to determine how the organizations have incorporated the recommendations in SAFO 17007 into line operations and training. SAFO 17007 (linked below) encourages the development of training and line-operations policies to ensure that proficiency in manual flight operations is developed and maintained for pilots. https://www.faa.gov/other_visit/aviation_industry/airline_operators/airline_safety/safo/all_safos/media/2017/SAFO17007.pdf.

An invitation to complete a one-time electronic survey will be sent to U.S operators (Part 121 and Part 135) employees who lead departments responsible for Operations and Standards, Training, and Safety. These personnel are responsible for implementing the SAFO's recommendations into line operations and training. All data provided will be kept private to the extent possible by law. To preclude the identification of individual responses, all respondents will be given a participant code that does not identify them or their organization. Only the project leaders will have access to the coding key, which will be destroyed after data analyses are complete. Only analyses and reports of aggregate data will be produced and released.

Failure to collect data on industry incorporation of SAFO 17007 recommendations will impact the quality of future FAA guidance provided to address manual flight operations. As such, it may also jeopardize future manual flight operations in an increasingly automated environment. SAFO 17007 encourages operators to practice manual flight in an operational environment; however, increased use of flight deck automation from NextGen National Airspace improvements will limit practice opportunities resulting in an increased need to make other improvement, which may be addressed through future FAA guidance.

Respondents: 1,224 U.S. Part 121 and Part 135 operator employees who lead departments responsible for Operations and Standards, Training, and Safety.

Frequency: One time.

Estimated Average Burden per Response: 30 minutes.

Estimated Total Annual Burden: 30 minutes per respondent, 612 total burden hours.

Victor K. Quach,
Scientific and Technical Advisor.

[FR Doc. 2020-22352 Filed 10-7-20; 8:45 am]

BILLING CODE 4910-13-P